NATIONAL AERONAUTICS AND SPACE ADMINISTRATION

[Notice 04-094]

Notice of Prospective Patent License

AGENCY: National Aeronautics and Space Administration.

ACTION: Notice of prospective patent license.

SUMMARY: NASA hereby gives notice that PAC Materials, L.L.C., of Huntsville, Alabama, has applied for an exclusive license to practice the invention MFS-31828-1-PCT in Taiwan entitled “High-Strength Aluminum Alloy for High Temperature Applications,” assigned to the United States of America as represented by the Administrator of the National Aeronautics and Space Administration. Written objections to the prospective grant of a license should be sent to Mr. James J. McGroary, Chief Patent Counsel/LS01, Marshall Space Flight Center, Huntsville, AL 35812. NASA has not yet made a determination to grant the requested license and may deny the requested license even if no objections are submitted within the comment period.

DATES: Responses to this notice must be received by August 13, 2004.

FOR FURTHER INFORMATION CONTACT: Sammy A. Nabors, Technology Transfer Department/CD30, Marshall Space Flight Center, Huntsville, AL 35812, (256) 544-5226.

Dated: July 21, 2004.
Keith T. Sefton,
Deputy General Counsel (Administration and Management).

[FR Doc. 04-17266 Filed 7-28-04; 8:45 am]

BILLING CODE 7510-01-P